GOVERNMENT ACCOUNTABILITY OFFICE

Request for Nominations for Board of Governors of the Patient-Centered Outcomes Research Institute (PCORI)

AGENCY: Government Accountability Office (GAO).

ACTION: Request for letters of nomination and resumes.

SUMMARY: The Patient Protection and Affordable Care Act gave the Comptroller General of the United States responsibility for appointing 19 members to the Board of Governors of the Patient-Centered Outcomes Research Institute. In addition, the Directors of the Agency for Healthcare Research and Quality and the National Institutes of Health, or their designees, are members of the Board. As the result of terms ending in September 2018, GAO is accepting nominations in the following categories required in statute: A physician, a nurse, a representative of patients and health care consumers, a representative of private payers, a representative of a state or a federal health program or agency, and a representative of pharmaceutical, device, or diagnostic manufacturers or developers. Nominations should be sent to the email or mailing address listed below. Acknowledgement of submissions will be provided within a week of submission.

DATES: Letters of nomination and resumes should be submitted no later than May 4, 2018, to ensure adequate opportunity for review and consideration of nominees prior to appointment.

ADDRESSES: Submit letters of nomination and resumes by either of the following methods: Email: PCORI@gao.gov. Include PCORI Nominations in the subject line of the message, or Mail: U.S. GAO, Attn: PCORI Board Nominations, 441 G Street NW, Washington, DC 20548.

FOR FURTHER INFORMATION CONTACT: Rashmi Agarwal at (202) 512-4077 or agarwalr@gao.gov if you do not receive an acknowledgement or need additional information. For general information, contact GAO's Office of Public Affairs, (202) 512-4800.

Authority: [Sec. 6301 and Sec. 10602, Pub. L. 111-148].

Gene L. Dodaro,
Comptroller General of the United States.

[FR Doc. 2018-06999 Filed 4-4-18; 8:45 am]

BILLING CODE 1610-02-P